DEPARTMENT OF LABOR

Employment and Training Administration

[TA-W-60,055; TA-W-60,055A]

Swift Textiles, d/b/a/ Swift Galey, Midland, GA, Including an Employee of Swift Textiles, d/b/a/ Swift Galley, Midland, GA Located in Garland, TX; Amended Notice of Revised Determination on Reconsideration

In accordance with Section 223 of the Trade Act of 1974 (19 U.S.C. 2273), and Section 246 of the Trade Act of 1974 (26 U.S.C. 2813), as amended, the Department of Labor issued a Notice of Revised Determination on Reconsideration on December 6, 2006, applicable to workers of Swift Textiles, d/b/a/ Swift Galey, Midland, Georgia. The notice was published in the Federal Register on December 12, 2006 (71 FR 74562-74563).

At the request of the State agency, the Department reviewed the certification for workers of the subject firm. New information shows that a worker separation has occurred involving an employee of the Midland, Georgia facility of Swift Textiles, d/b/a/ Swift Galey located in Garland, Texas. Mr. Gamalief Lotez provided sales support services for the production of denim fabric that is produced at the Midland, Georgia location of the subject firm.

Based on these findings, the Department is amending this certification to include an employee of the Midland, Georgia facility of Swift Textiles, d/b/a/ Swift Galey, located in Garland, Texas.

The intent of the Department's revised determination is to include all workers of Swift Textiles, d/b/a/ Swift Galey, Midland, Georgia who were adversely affected as secondary workers.

The amended notice applicable to TA-W-60,055 is hereby issued as follows:

All workers of Swift Textile, d/b/a/ Swift Galey, Midland, Georgia (TA-W-60,055), including an employee in support of Swift Textile, d/b/a/ Swift Galey, Midland, Georgia located in Garland, Texas (TA-W-60,055A), who became totally or partially separated from employment on or after September 11, 2005, through December 6, 2008, are eligible to apply for adjustment assistance under Section 223 of the Trade Act of 1974, and are also eligible to apply for alternative trade adjustment assistance under Section 246 of the Trade Act of 1974.

Signed at Washington, DC this 7th day of November 2007.
Elliott S. Kushner,
Certifying Officer, Division of Trade Adjustment Assistance.

[FR Doc. E7-22320 Filed 11-14-07; 8:45 am]

BILLING CODE 4510-FN-P